DEPARTMENT OF THE INTERIOR

National Park Service

Record of Decision for the Comprehensive Design Plan for the White House and President's Park and Final Environmental Impact Statement

AGENCY: National Park Service, Department of the Interior.

ACTION: Notice.

SUMMARY: The Department of the Interior, National Park Service has prepared the following Record of Decision on the Final Comprehensive Design Plan for the White House and President's Park and Environmental Impact Statement. This Record of Decision is a statement of the background of the project, what decisions were made, the basis for the decision, what alternatives were considered, the environmentally preferred alternative, the measures to minimize environmental harm and the public involvement in the planning process.

Background of the Project

Need for the Plan

The White House and President's Park are located in our nation's capital, Washington D.C., where the White House serves as the home and office of the President of the United States. The overall purpose of a Comprehensive Design Plan for the White House and President's Park is to provide a framework for future management of the area that will respect past traditions and meet the needs of tomorrow. This effort represents the first comprehensive plan for the property since George Washington designated the site in 1791 as the residence for the President.

The White House and President's Park are a manifestation of more than 200 years of incremental change. Most problems have been addressed as they have arisen, while some have not been addressed at all. The lack of a comprehensive plan has generally resulted in a piecemeal approach to problem solving and development. Also, surrounding urban land uses continue to encroach on President's Park and threaten its dignity and character.

Some of the critical concerns facing the White House and President's Park include:

• Not enough space or facilities, or facilities that are not of the right type or in the right location, to accommodate the changing functions of the Executive Office of the President.

• Insufficient informational and educational programs and support facilities for visitors.

• A lack of privacy and indoor recreation space for the first family.

• The inconsistent use of designs and materials throughout the area, creating a haphazard appearance.

• Adverse effects on the dignity and visual quality of the White House and President's Park as a result of vehicles parking throughout the site, temporary structures (such as bleachers) that look out of place, and other activities that create a disorganized appearance.

• Inadequate maintenance storage and equipment; poorly located and worn-out utilities.

The following agencies, which serve as members of the project's Executive Committee, helped develop the Comprehensive Design Plan for the White House and President's Park: Advisory Council on Historic Preservation, Commission of Fine Arts, District of Columbia, Executive Office of the President, Executive Residence at the White House, General Services Administration, National Capital Planning Commission, National Park Service, Pennsylvania Avenue Development Corporation (until April 1996), U.S. Department of the Treasury, U.S. Secret Service, White House Military Office.

Park Purpose

The White House has been the official residence of every president since November 1, 1800 when the first residents—John and Abigail Adams—moved in. The White House is a classic Georgian manor house that is one of the most important buildings in the history of the United States.

The White House was created and set aside as an important national treasure to: (1) Provide a residence that offers privacy, protection and recreational opportunities for the first family; (2) Provide a suitable location for the official functions and activities of the presidency; (3) Provide office facilities for the president and immediate staff; and to (4) Preserve and interpret the museum character of the White House; provide public access to the principal corridor on the ground floor and to the state rooms on the first floor.

President's Park was created and set aside to: (1) Preserve the cultural resources of the White House—its architecture, artifacts, landscape design, gardens and grounds and the surrounding parklands—in ways that foster and preserve dignity and respect for the office of the presidency while still allowing for their use; (2) Provide a dignified transition area from an urban environment to the White House environs; (3) Interpret the history and significance of the presidency, the White House, and President's Park, including their relationship to the American public, our republican form of government, and the growth of Washington, DC; (4) Preserve existing historic memorials as examples of memorial art; (5) Provide a large open area associated with the White House for freedom public expression and assembly activities, as well as for public use and enjoyment; (6) Protect and enhance views to and from the White House and provide a setting for viewing the White House; (7) Preserve Lafayette Park as open public space in the foreground of the White House as a setting for passive activities (reflecting, observing, making a personal connection with the presidency), First Amendment activities within legal limitation, and as a support area for presidential inaugural activities; (8) Preserve and interpret Lafayette Park as one element of the oldest planned federal reservation in the nation, an example of early American landscape design, and the 19th century neighborhood of the president; and to (9) Provide a setting for viewing the White House and elements of the Lafayette Square National Historic Landmark District.

Planning Assumptions

The following planning assumptions form the framework for future actions at President's Park and the White House and were used in development of the proposed action and the alternatives. The alternatives, draft and final plans were measured against these assumptions to guide the choice of actions.

Comprehensive Design

Future designs and actions on the White House grounds and within President's Park will respect the significant elements of past landscape designs. Elements may be carefully redesigned to serve modern functions, but their original context will be preserved. The vistas, viewsheds, buildings, roadway and walkway systems, fencelines, plantings, and all other elements that combine to create a ceremonial landscape for state functions will be respected in the design and construction of new facilities. President's Park will continue to be an open area that is visually linked to the National Mall; the traditional vistas to and from the north and south will be maintained. No new surface facilities will be constructed within primary and secondary views with President's Park. Facilities and maintenance operations will reflect the dignity, significance, and history of the site and the presidency.

Design Guidelines that have been developed for architecture, landscape architecture, design elements, signs, and temporary facilities at the White House and President's Park will be followed. Quality materials will be used to reflect the importance and dignity of the White House.

Resource Conservation and Management

Cultural and natural resources will continue to receive high-quality care and protection. All federal agencies managing cultural resource programs at the site will continue to do so. The National Park Service will cooperate with these agencies to foster the exchange of information and the development of cooperative approaches and programs for resource protection. All memorials established by legislation will be retained. All programs and facilities will be designed and managed in an environmentally sound manner.

Executive Residence

The White House will continue to serve as the executive residence of the President of the United States. The plan will not address the second and third floors of the White House. Official functions will continue to be held at the White House and on its grounds. Vehicular arrivals and departures by the president and official visitors will continue at multiple entry and exit points. The south lawn of the White House, and on occasion the Ellipse, will be used for air transport. Safety and security for the president and the first family will not be compromised. Business visitors, guests for official functions and staff will be cleared at entrances that are convenient to their meetings or events, or their work places. West Executive Avenue will continue to be within the secured portion of the White House complex and closed to public pedestrian traffic. New utility systems will be energy efficient, environmentally sensitive, and easy to maintain and upgrade.

Executive Office Support Services

The White House will continue to serve as the president's official office. Multiple points of access into the White House complex will continue to be available for all presidential guests and visitors. Space for essential White House administrative and operational functions will be provided within or adjacent to the White House; existing spaces within President's Park may be used. Staff parking on the Ellipse and adjacent roadways, East Executive Park, West Executive Avenue, and Hamilton, State, Jackson, and Madison Places will be provided elsewhere in order to improve aesthetics and to reestablish the dignity and character of the site. Replacement parking with easy access to the White House will be provided.

News Media Facilities

Facilities will be provided for the news media to maintain direct access to the press secretary and the press staff. Such facilities are in the long tradition of chief executives providing space for the news media so they can provide coverage of, and maintain proximity to, the operations of the Executive Office of the President.

Visitor Use and Services

The White House and President's Park are integral to the total visitor experience of Washington DC. The White House will continue to be open to the general public on a regular basis free of charge. The present White House tour will not change dramatically and will continue to feature rooms on the ground and state floors. Because access to the White House is the most important objective of most visitors to President's Park, this experience will be made as pleasant and convenient as possible. To ensure adequate visitor orientation to the White House and President's Park and to provide ticketing and staging for White House tours, a White House visitor center and museum will be provided within easy access of the White House.

Special Events

Special events of varying size, intensity, and significance will continue in President's Park, as well as on the White House grounds. All First Amendment activities will be accommodated in compliance with current law.

Transportation

The National Park Service will enter into discussions with local and regional planning agencies to address traffic concerns in the Washington, DC, downtown area in a comprehensive fashion, while ensuring the protection and preservation of national resources as represented by the White House and President's Park. Access to the White House and President's Park will be maintained for operational support and emergency vehicles. Madison, Jackson, State, and Hamilton Places will remain restricted to public vehicular traffic and will become pedestrian-oriented streets. No vehicle parking will be provided on Jackson, Madison, State, or Hamilton Place; on the Ellipse roadways, or along the curb lanes surrounding President's Park (15th Street, 17th Street, Constitution Avenue, and H Street). A future long-term design for Pennsylvania Avenue, as well as Lafayette Park, will be considered in a separate planning document. The use of mass transit by visitors and staff will be actively encouraged through policy and design. Agencies will work with the Washington Metropolitan Area Transit Authority to promote staff and visitor use of mass transit.

Site Management and Operations

The White House and President's Park will continue to be managed through interagency cooperation. All buildings and grounds within the White House complex will be managed by the responsible agency or through interagency agreements. Sites or structures outside the boundaries of President's Park may have to be used in order to meet needs identified in the plan.

Decision (Selected Action)

Comprehensive Design

The plan includes those actions that will best meet the needs of the Executive Residence, the Office of the President, the multiple agencies involved in stewardship or management roles within President's Park, and visitors. The historic elements and character of President's Park and the White House, including roadways, boulevards, and walkways, will continue to be respected. This area will still serve as a ceremonial landscape for state events. A comprehensive landscape plan will be developed for the White House and President's Park, including guidelines for maintenance practices. The landscape plan will update the existing Olmsted Plan (1935) for the White House grounds and create a guide for landscaping in the remainder of President's Park.

President's Park will become a pedestrian-oriented space. While pedestrians can enter from any point around the site, entryways would be created at intersections with the highest pedestrian volumes. These entryways will signal visitors that they are coming into a special place and also will provide visitor information. A total of 8 entryways will be provided (two each on H Street, Pennsylvania Avenue, E Street, and Constitution Avenue).

Design Guidelines for the White House and President's Park, approved in 1995, provide a framework to guide future development. The guidelines identify principles for architecture, landscape architecture, design elements, signs and temporary facilities. They are based on existing designs in and around President's Park and the White House.

Two objectives were considered in locating all proposed facilities: (1) Where possible, use existing buildings (if they meet desired future conditions and program requirements) in order to protect resources, enhance the site character, and minimize new development. (2) Where new facilities are needed, relocate as many functions as possible to new underground structures to minimize any new intrusions on the surface; optimize the use of new facilities in order to avoid the creation of numerous small facilities and increased costs.

Resource Conservation and Management

All cultural resource documentation will be kept current. All monuments and memorials within President's Park will receive conservation/preservation treatment on a regular schedule and be kept in the best possible condition. All historically significant trees and specimen plants will be identified, physically assessed, inventoried, maintained and replaced with similar plant materials, as needed.

A comprehensive landscape plan will be developed for the White House and President's Park, including guidelines for maintenance practices. The landscape plan also will update the existing Olmsted Plan (1935) for the White House grounds.

A comprehensive archeological program, based on a completed preliminary survey, will be developed to help ensure the conservation, protection and proper administration of archeological resources.

Storage space for fine and decorative arts will be provided within or immediately adjacent to the White House so that items can be properly prepared for shipment to offsite storage facilities, or so that damaged items can be fully assessed before transportation to conservators. This facility will also be used to temporarily store artifacts during events.

Executive Residence

Secure, indoor, informal recreation space for future first families will be provided outside of the White House itself, but immediately adjacent to the residence. General storage space for items frequently used at the Executive Residence will be provided below ground underneath Pennsylvania Avenue. An underground corridor will connect the storage area and the Executive Residence. Other storage will also be provided in the lower level of the west colonnade. The maintenance facility on the south grounds of the White House will be redesigned for efficiency within the footprint of the current structure.

Executive Office Support Services

Official visitors and White House guests will continue to use multiple entry points. West Executive Avenue will be redesigned to appear similar to East Executive Park. Utility systems will be replaced and relocated to meet the changing and expanding needs of the White House complex and grounds.

Staging for motorcades and parking for senior staff will be provided in a 290-space parking garage beneath Pennsylvania Avenue, with a belowground access corridor to the White House complex. Parking for other staff will be provided by constructing an 850-space garage beneath the Ellipse. Pending the completion of this facility, parking will be leased in private parking garages within about a 10-minute walk of the White House complex.

To accommodate existing needs, new meeting/conference space will be constructed under West Executive Avenue. To facilitate staff circulation and deliveries throughout the site and to minimize conflicts with Executive Residence operations, a belowground corridor will connect the Dwight D. Eisenhower Executive Office Building, the White House and the Treasury Building. Deliveries will be made at docks in the New Executive Office Building and distributed throughout the site by way of underground service corridors. Facilities for the news media will be upgraded on the first floor of the west colonnade, with additional new facilities provided beneath West Wing Drive.

Visitor Use and Services

Complete information and orientation for visitors will be provided at entryways to the park, using staff and interactive computer monitors.

The White House Visitor Center in the Commerce Building will be expanded below ground in existing and new space to provide small theaters for staging the public tour, a museum, and exhibit, program and educational areas. Expanded interpretive programs about the White House and the presidency will be offered, with specially designed programs for visitors and schoolchildren. Visitors taking a public tour of the White House will watch a short orientation film and then move through a naturally lighted pedestrian corridor to just outside the fenced portion of the White House grounds. From there they will walk on the surface sidewalk to the existing visitor entrance building.

To improve the appearance and dignity of President's Park, no commercial vending will be allowed along adjacent sidewalks and curb lanes. Informal recreational activities will continue on the Ellipse.

Special Events

For special events, a new plaza/performance area will be constructed in the panel just northeast of the Ellipse. The plaza will provide permanent infrastructure to reduce impacts associated with staging events. Events will need to reflect the purpose and dignity of the site, be small scale and of short duration, involve minimal commercialism, and reflect multiple cultures. Any temporary facilities used for staging events will be promptly removed.

Transportation

In the long term, the plan seeks to reduce the pedestrian vehicle conflicts in President's Park and thus calls for E Street to be two lanes eastbound with an access lane for official White House traffic and a landscaped median to create a more parklike atmosphere. Long term major improvements will be made to enhance E Street's appearance, including changing the shape of some medians, planting along medians and pavement and other material changes along the roadway to create a more parklike setting. The intent of all such improvements will be to help blend the road into the vista and minimize its intrusion. Changes in paving pattern or materials will signify a special place for all vehicles entering the park.

However, the plan recognizes that severe traffic problems exist in the downtown District of Columbia street system. Further, the plan recognizes that interim measures involving E Street within President's Park must be taken to help alleviate these problems. The Federal Highway Administration, with the cooperation of the District of Columbia and the National Park Service, will complete a project during 2000 to restore westbound traffic between 15th and 17th Streets, thus re-opening two-way traffic on E Street.

Proposals have also been introduced for the E Street area, such as tunnels, which are beyond the scope of this plan, but that may be considered in the future. Reducing surface traffic within President's Park remains a long-term goal of the plan. To enhance the pedestrian experience and safety, the National Park Service may experiment with options such as timed access and crossing assistance.

The roadways on the Ellipse will be closed to vehicular traffic except for limited access by emergency and authorized traffic. The roads' historic configuration and character will be retained for use as wide pedestrian paths leading to adjacent gardens in the side panels.

Site Management and Operations

To make park operations more efficient, a satellite maintenance facility will be developed near President's Park. The steam line under the center of the Ellipse will be relocated, subject to criteria to protect park resources.

Other Alternatives Considered

The No Action Alternative

Comprehensive Design

The no-action alternative would continue current management strategies. Management decisions regarding the development and appropriate design of elements within the park (e.g., monuments, paving materials, fences and barriers, and infrastructure for special events) would be made on a project-by-project basis. Construction and development would be undertaken to address immediate needs and pressures. No coordinated efforts by agencies would be undertaken to minimize impacts from overuse.

Home and Office of the President

No additional recreation space would be provided for future first families. Meetings and conferences would continue to be held in available spaces throughout the complex, including historic rooms that are not equipped for such functions. Frequently used materials within the White House complex would be stored offsite and brought in as needed. Deliveries would be made at various surface locations. Facilities for the news media would remain in the west colonnade. Staff vehicles would be parked in currently used areas.

Visitor Use and Services

Information and orientation sources would be scattered throughout President's Park; visitors would continue to stop at security guard booths for information. The visitor center would remain in the Commerce Building. After picking up same-day public tour tickets at the visitor center, visitors would queue up for tours on the Ellipse during the summer and along the White House fence the rest of the year, as they do now. Commercial vending would continue along sidewalks and curb lanes adjacent to President's Park.

Special Events

Special events on the Ellipse and within the White House grounds would continue to be accommodated, with no controls on growth.

Transportation

E Street would remain as two lanes eastbound across President's Park.

Site Management and Operations

Maintenance operations would be based at an existing facility about 1.5 miles away.

Alternatives 1, 2 and 3

As previously mentioned, alternatives 1, 2, and 3 were presented to the public during the spring of 1995. The proposed plan includes elements from all these alternatives, and the following discussion focuses on the different approaches between the alternatives.

Comprehensive Design

Under each alternative, as described for the proposed plan, pedestrian entryways would signify to visitors that they were coming into President's Park.

Under alternative 1 traditional patterns of use and site relationships would be respected. All major support operations would be accommodated below ground within the White House complex and President's Park.

Under alternative 2 major support operations and facilities for the Executive Residence and the Office of the President would be accommodated as much as possible within the White House complex and President's Park. All elements of President's Park would be visually unified by emphasizing north/south views along East Executive Park and West Executive Avenue, with pedestrian plazas on the eastern and western portions of South Executive Avenue. E Street would be tunneled, providing unobstructed views to and from the White House and allowing the Ellipse to be linked with the rest of President's Park.

Under alternative 3 operations and support facilities would be smaller, decentralized, and dispersed away from the White House grounds and President's Park as much as possible. Only those operations that must occur within or near the White House would remain. The use of existing structures would be emphasized, with as little new facility construction as possible. A historical ambience would be evident through President's Park, and E Street would be removed, helping link the Ellipse with the rest of President's Park.

Resource Conservation and Management

Under each alternative, resources would be managed as described for the proposed plan.

Home and Office of the President

Facilities under each alternative would be similar to those under the proposed plan, but locations would differ.

Under alternative 1 indoor recreation space for future first families, storage space, and facilities for the news media would be provided beneath West Executive Avenue, in conjunction with meeting space. Staff parking facilities would be provided onsite. In addition to a 290-space parking facility under Pennsylvania Avenue and an 850-space facility under the northern part of the Ellipse, below ground parking would also be provided south of the Treasury Building (170 spaces). Deliveries would be accommodated at the facility south of Treasury, as well as through the New Executive Office Building.

Under alternative 2 indoor recreation space for future first families would be provided below ground north of the residence. A meeting and conference facility, plus general storage space, would be constructed beneath West Executive Avenue; a motorcade staging area and parking for diplomatic and business visitors (290) would be provided below ground south of the Dwight D. Eisenhower Executive Office Building. Parking for other staff (850 spaces) would be leased or provided in a new facility within about a 10-minute walk of the complex. For news media facilities, either existing facilities in the west colonnade would be upgraded or the first floor of the colonnade would be upgraded and additional facilities constructed under West Wing Drive.

Under alternative 3 recreation space for future first families would be provided within the west colonnade where press facilities are now. Facilities for meetings and conferences and the news media would be developed within the north courtyard of the Dwight D. Eisenhower Executive Office Building rather than below West Executive Avenue. As described for the proposed plan, a 290-space parking facility for motorcades, diplomatic and business visitors, and some senior staff would be constructed under Pennsylvania Avenue. An additional 200 parking spaces, as well as delivery facilities, would be provided in the Office of Thrift Supervision or under Pennsylvania Avenue, and another 650 parking spaces would be leased or provided in a new facility nearby.

Visitor Use and Services

Visitor information and orientation functions would be provided at park entryways under each alternative, as described for the proposed plan. No commercial vending would be allowed along sidewalks or curb lanes adjacent to President's Park under any alternative.

Under alternative 1 a new 66,000-square-foot visitor center and museum would be built underground in the northeast quadrant of the Ellipse. Visitors would have additional opportunities to learn about the presidency and the White House through interpretive programs, including living history, conducted throughout the park. Visitors on public tours of the White House would move through a below ground corridor from the visitor center directly to the visitor entrance building.

Under alternative 2 a 40,000-square-foot visitor center would be constructed below ground to the south and west of the U.S. Treasury Building. Visitors on public tours of the White House would take escalators, elevators, or stairs directly up to the visitor entrance building. In lieu of interpretive exhibits and activities at this smaller visitor center, numerous interpretive and educational experiences would be provided throughout the site. (This proposal could conflict with utility work recently being planned south of the Treasury Building.)

Under alternative 3 interpretive programs and exhibits would be focused at an expanded visitor center and museum in the Commerce Building (60,000 square feet), as described for the proposed plan.

Special Events

Criteria would be established for special events in President's Park (other than First Amendment demonstrations) under alternatives 1 and 2, similar to the proposed plan. Under alternative 1 all special events would be worthy of attendance by the first family and reflect the site's dignity. Existing special events on the Ellipse would be reduced in scale and duration, and they would be dispersed around the site to allow sufficient time for turf and garden areas to recover. Under alternative 2 a special events plaza, as described for the proposed plan, would be built in the Ellipse area. Under alternative 3 all special events currently held within President's Park would be moved to other sites within the metropolitan area.

Under each alternative recommendations would be developed for events on the White House grounds to protect resources.

Transportation

As described for the proposed plan, Ellipse Drive and the adjacent roadways would be closed to vehicular traffic, although access would still be allowed for emergency and authorized traffic. The roadways would be redesigned as pedestrian walkways, with pathways leading to gardens and sitting areas in the side panels.

Under alternative 1 E Street would be widened to four lanes (two lanes in each direction) across President's Park and between 17th and 18th Streets. A pedestrian underpass would be provided near 15th Street.

Under alternative 2 E Street would be tunneled as a four-lane, two-way street through President's Park.

Under alternative 3 E Street would be closed to traffic and replaced with a broad walkway.

Site Management and Operations

Under each alternative a satellite maintenance facility would be developed to allow more efficient maintenance operations throughout President's Park. Under alternative 1 this facility would be built in conjunction with the Ellipse parking facility, while under alternatives 2 and 3 it would be provided nearby. As described for the proposed plan, the steam line under the Ellipse would be relocated, based on criteria to protect park resources.

Environmentally Preferred Alternative

The environmentally preferred alternative is defined as “the one that will promote National Environmental Policy as expressed in the National Environmental Policy Act's, Section 101. Ordinarily, this means the alternative that causes the least damage to the biological and physical environment; it also means the alternative which best protects, preserves, and enhances the historic, cultural and natural resources in the area where the proposed action is to take place.” (“Forty Most Asked Questions Concerning Council on Environmental Quality's (CEQ) National Environmental Policy Act Regulations.” 1981).

The no-action alternative would eventually result in the deterioration or loss of significant cultural and natural resources as site staff respond to immediate needs and pressures rather than a coherent long term plan that minimizes impacts.

All action alternatives have varying cultural resources impacts that may be considered adverse and they are identified in the Environmental Impact Statement. Section 106 Memorandum of Agreements would be developed for each project considered adverse and located outside the area excluded by Section 107 of the Historic Preservation Act of 1966, as amended.

The selected action will result in considerable ground disturbance for construction of underground parking facilities, the storage area and the news media and meeting facilities.

Alternative 1 would result in extensive ground disturbance for construction of underground parking facilities, the eastside parking/delivery area, the visitor center and museum, and the news media and meeting facilities.

Alternative 2 would result in extensive ground disturbance for the visitor center, the westside parking/delivery area, the news media and meeting facilities, storage facilities and the tunneling of E Street.

Alternative 3 would result in ground disturbance for the visitor center corridor, and the parking facilities and delivery access.

Alternative 3 has the least impact on vegetation and soils because much of the new development would take place under existing streets. However, elements of Alternative 3 have serious adverse effect upon the historic Dwight D. Eisenhower Executive Office Building. Alternative 3 also would have significant impact upon the surrounding fabric and existing functions of the city.

The selected action is the environmentally preferred alternative because while it causes considerable disruption of soils and vegetation, it does not have a serious adverse effect upon the historic Dwight D. Eisenhower Executive Office Building and does not expand the White House complex into new areas of the city beyond the present security perimeter, thus minimizing additional intrusion by the operational needs of the site into the surrounding fabric of the city. The natural environment at the site, which is a series of historic landscapes, has been affected by human design and presence since the 1790s. All areas where ground disturbance takes place will be restored and replanted following construction. The selected action also provides for maintenance of, and enhancement to, the historic landscape and built environment through creation of an update to the Olmsted Plan and implementing of design work based on that document.

Basis for Decision

The selected action was created based upon the “Planning Assumptions”, described in the foregoing material. In addition, public involvement at the data collection, alternatives and draft and final plan stages provided further insights as to how others saw the site and its problems.

Many elements of the selected action were common to all alternatives in order to meet the “Planning Assumptions”. There are some places where differences between the alternatives occur and in those cases, the basis for the decision included:

Home and Office

For efficiency purposes, it is important to have storage of commonly used items immediately accessible to the Executive Residence. To be effective for future first families, the indoor recreation space needs to be immediately adjacent to the historic White House structure.

Meeting space needs to be in immediate proximity to the West Wing and the Dwight D. Eisenhower Executive Office Building, but not be built within the courtyards of the historic building.

Motorcade and staff parking need to be consolidated into two facilities in close proximity to the White House complex. The access portals for the facilities should not expand the perimeter of the secure complex.

The new delivery facility should not expand the perimeter of the secure complex.

For the news media, new updated facilities need to be provided and the existing ground floor of the west colonnade needs to be renovated.

Visitor Use and Services

The existing visitor center at the Commerce Department has the appropriate large entry area for the numbers of people who take the White House tours. The existing facility should be expanded rather than impact historic structures and landscapes at the site with a new visitor center structure.

A full visitor education program is needed for the White House and President's Park.

White House tour visitors should spend a brief period of time along the White House fence to experience the historic context and vistas of the White House as they wait for their tour.

The historic landscape of the Ellipse needs to be maintained and preserved, while providing traditional recreational uses, encouraging passive recreation and providing no permanent infrastructure for active sports.

Special Events

An events plaza needs to be constructed to provide the infrastructure needed for special events at the site. Special events are a part of the site's history and tradition. These need to be continued while finding ways to minimize the impacts and damage to the historic landscape.

Transportation

Reducing pedestrian/vehicle conflicts at the site, especially in the E Street corridor, is the long-term goal of the plan. However, the very difficult traffic congestion problems in the downtown area of the District of Columbia mean that interim measures need to be taken to improve traffic on E Street. The Federal Highway Administration, in cooperation with the National Park Service and the District of Columbia, will complete a project in 2000 to restore westbound traffic to E Street between 15th and 17th Streets.

Site Management and Operations

For efficiency, the President's Park maintenance facility needs to be included in the Ellipse parking facility.

Measures to Minimize Harm

All practical measures to avoid or minimize environmental impacts that could result from implementation of the selected action have been identified and incorporated.

Representatives of the District of Columbia and the Advisory Council on Historic Preservation have been involved in the development of the selected action. Further consultation will occur prior to implementation of individual actions described within the plan. Archeological evaluation and mitigation will precede all ground disturbances, if required.

The final plan recommends a landscape management plan for the White House and President's Park be undertaken to guide development and aid preservation of significant historical features of the landscape. In addition, site-specific vegetation management plans will be developed to guide individual actions.

Site specific plans will be developed to prevent storm water runoff in construction areas that could result in groundwater contamination.

Hazardous waste removal plans will be developed as necessary in construction areas where the potential for contaminated materials exists. In particular, studies for hazardous materials will be conducted in the area of the Ellipse parking garage during the preliminary design development stages of the project. Sampling will be conducted as specified in the comments from the Environmental Protection Agency, and additional test samples will be taken as required.

Public and Interagency Involvement

Throughout the planning process for this Comprehensive Design for the White House and President's Park, consultation and coordination opportunities have been made available to other agencies, organizations, visitors, and the general public, as described below. In addition, presentations were made to a variety of organizations and individuals interested in the status of planning for the White House and President's Park.

Scoping Activities for the Plan

A Federal Register notice was published by the National Park Service on March 19, 1993, announcing the start of the process for a Comprehensive Design Plan for the White House and the preparation of a draft environmental impact statement.

Beginning in March 1993 and throughout the spring and summer, issue workshops were held to elicit the concerns of two audiences: (1) Officials and staffs of the 12 stewardship and oversight agencies with management responsibilities at the White House and within President's Park, and (2) organizations, including adjacent businesses and institutions, that have specific interest or concerns at the site. Approximately 50 different agencies and organizations participated in the workshops; more than 70 organizations were invited to attend. Workshops continued into the fall of 1993.

From April 30 through May 3, 1993, an opportunity to hear from visitors and the general public was provided on the eastern side-panel of the Ellipse near 15th Street. Members of the planning team were on the site to talk with local, national, and international visitors about their time in the study area. The purpose of this activity was to listen to concerns and comments from visitors, in addition to agency concerns. Team members talked to people on Friday and Saturday, when the White House was open for tours, and on Sunday and Monday, when the White House is closed for tours. Approximately 1,100 visitors were encouraged to provide information for a series of exhibits to find out how visitors arrived at the site, what they saw while there, what they wanted to know more about in relationship to the presidency and the White House, and their suggestions for improvements in the area.

Desired Futures

In the fall of 1993 a total of 80 subject matter experts were invited to workshops on October 27 and 28 to develop desired futures for what the area should be like in the year 2015. Nine working groups addressed support services for the Executive Residence, support services for the Executive Office of the President, resource conservation and protection, official functions, security, special events, visitor use and services, transportation, and site character. Individuals represented both the public and private sectors; some had a long experience at the site, and others had expertise in a particular field but no experience with the White House and President's Park. The desired futures developed at these workshops can be found on page 16, and a list of the participants is included in Appendix G of the Final Comprehensive Design Plan for the White House and President's Park and Final Environmental Impact Statement.

Executive Committee

To help guide the development of the plan, the Director of the National Park Service asked the leadership of governmental stewardship and oversight agencies (those federally chartered organizations who have official responsibilities within the study area) to serve on an Executive Committee chaired by the National Park Service Director. The intent was to create a forum for each member to be directly involved and to be able to provide their expertise and that of their agencies with regard to the White House and President's Park.

Agencies serving on the Executive Committee include:

Executive Office of the President—National Park Service

Executive Residence at the White House—District of Columbia

White House Military Office—Commission of Fine Arts

Department of the Treasury—National Capital Planning Commission

U.S. Secret Service—Advisory Council on Historic Preservation

General Services Administration—Pennsylvania Avenue Development

Corporation (until 4/96)

Beginning in spring 1993, the committee met at the following key stages to guide the development of the plan: issue identification, desired futures, conceptual alternatives, alternatives, development of a preferred alternative and development of the final plan.

During its work the committee formed two subcommittees: one helped develop design guidelines for the site (chaired by the National Park Service), and a second helped develop a draft strategy for implementing and financing the final plan (chaired by the Pennsylvania Avenue Development Corporation).

Design Guidelines

The Design Guidelines Subcommittee held a workshop on August 3, 1994, with a cross section of professionals in landscape architecture, urban planning, architecture, lighting, and land management. Ideas generated during the workshop helped develop the foundations for the Design Guidelines. The Design Guidelines can be found on page 15, and the workshop participants are listed in Appendix G of the Final Comprehensive Design Plan for the White House and President's Park and Final Environmental Impact Statement.

Interpretive Themes Workshop

A workshop was held on March 2, 1994, to develop interpretive themes for the White House and President's Park. Participants used their expertise in interpretation and the history of the site, as well as the results of the Ellipse public involvement from spring 1993 and the earlier visitor surveys done at the site. The interpretive themes developed at this workshop are described in Appendix D, and the participants are listed in Appendix G of the Final Comprehensive Design Plan for the White House and President's Park and Final Environmental Impact Statement.

News Media Working Group

In March 1995 the National Park Service presented the alternative concepts being considered for the site to the news media organizations that cover the White House. At that time concerns were expressed about proposals for spaces they use at the site. As a result, the Park Service invited the White House Correspondents' Association, the White House News Photographers' Association, and the Network Pool to join in a news media working group. The group worked with the Park Service and other agencies at the site to develop proposals for the space assigned to the news media. The working group meetings included a news media desired futures workshop in August 1995. The participants in the news media working group can be found in Appendix G, and the news media desired futures in Appendix H of the Final Comprehensive Design Plan for the White House and President's Park and Final Environmental Impact Statement.

Public Forum and Alternatives Newsletter

During April and May 1995 the alternative concepts being considered for the White House and President's Park were made available for the public review and comment. Copies of the planning newsletter were mailed to approximately 5,000 persons and organizations on the project mailing list. Included in the newsletter was a description of three alternative concepts for the site plus a response form. The alternative concepts were the subject of widespread radio and television news coverage and were the focus of public forums held at the White House Visitor Center in Washington, D.C., on April 10 and 11. During the forums some 2,400 people saw exhibits and a video on the alternatives. Copies of the alternative concepts and the newsletter response form were available. Members of the National Park Service planning team were available to discuss problems at the site and the three alternative concepts. These concepts were the basis for the three alternatives presented in the Final Comprehensive Design Plan for the White House and President's Park and Final Environmental Impact Statement; the final plan draws elements from each of the alternatives.

Development and Review of the Draft Plan

After public review of the conceptual alternatives further work was done to refine the alternative elements. The draft plan was developed in coordination with members of the Executive Committee.

The Draft Comprehensive Design Plan for the White House and President's Park and Draft Environmental Impact Statement was made available to the public for review and comment from December 2, 1998, until March 11, 1999. Interested federal and local public agencies, neighboring businesses and organizations, interested individuals, and the cooperating agencies on the Executive Committee were provided an opportunity to review and comment on the document.

During the comment period, the proposed plan was presented in many media, including newspaper and magazine articles, television and radio broadcasts, public summaries of the proposed plan (9,000 copies were distributed), an Internet Web site, National Park Service presentations to interested groups, and an exhibit at the White House Visitor Center. Public forums were held on the draft document at the White House Visitor Center on January 27 and 28, 1999.

Public and agency review of the Draft Comprehensive Design Plan for the White House and President's Park and Draft Environmental Impact Statement helped ensure that relevant issues and alternatives were adequately considered and evaluated, and that all pertinent implications of the alternatives were analyzed. The comments and responses enabled interested parties to review and assess how other agencies, organizations, and individuals responded to the proposed action, the alternatives, and their potential impacts.

Summary of Comments

A total of 100 responses were received—14 from governmental agencies, 15 from businesses and organizations, 2 from students at educational institutions, and 69 from individuals. The responses represented a wide geographic distribution, with 22% from the Washington, D.C., area and 78% from the rest of the nation.

The comments came in various forms: 51 letters, 31 E-mails and Web site responses, and 18 exhibit questionnaires. The most frequently mentioned topics in the responses related to facilities, project cost or funding, adjacent streets, parking, landscape design, and the implementation schedule.

Facilities

Six responders were not in favor of improving White House recreation facilities for the president. With regard to facilities for the White House press corps, the White House Correspondents' Association was concerned about space and access to the president (two letters signed by nine individuals), while four public commenters suggested removing or restricting press space. Other responses suggested improving the Pageant of Peace location on the Ellipse (2 comments) and improving existing facilities and outdoor space at the White House (2 comments).

Project Costs or Funding

Seventeen responders were concerned about how the project would be financed or the total cost of the project.

Adjacent Streets

Both E Street and Pennsylvania Avenue were mentioned by several responders. E Street comments included the following range, as summarized below:

• Tunnel E Street (5 comments).

• Do not tunnel E Street (1 comment).

• Eliminate/close E Street (2 comments).

• Do not close E Street (1 comment).

• Widen E Street to four lanes (2 comments).

• Provide reversible lanes on E Street (1 comment).

• Clarify the short-term versus the long-term action (1 comment).

Responders commented on Pennsylvania Avenue even though the draft document stated that public vehicular access on the avenue had been restricted by the U.S. Department of the Treasury and that a future long-term design for Pennsylvania Avenue would be considered in a separate planning document. The comments ranged from supporting the permanent closure of Pennsylvania Avenue (3 comments) to objecting to the closure or requesting that subsequent impacts on historic buildings, traffic, and parking be addressed (3 comments).

Parking

Parking comments related to support for underground parking (4 comments), support for removing cars from the Ellipse (3 comments), security concerns (4 comments), concerns about too much staff parking (5 comments), a question about cumulative impacts on parking with a new Washington Convention Center (1 comment), and a need to more adequately assess the impacts of leasing parking space (1 comment).

Three responders expressed concern about security within an underground parking garage beneath the Ellipse and access to the White House. There were also concerns about vegetative impacts (2 comments), potential landfill problems (1 comment), visual impacts of the portals (1 comment), and traffic impacts on Constitution Avenue associated with the Ellipse parking facility (1 comment). Three responders suggested providing public parking under the Ellipse, and six others suggested promoting public transportation instead of providing additional parking.

Landscape Design

There were 13 comments either supporting specific design elements or offering suggestions pertaining to the “Greening of the White House,” memorial requests, the First Division Monument, the use of native landscape materials within the White House grounds, and architectural design features not provided in the framework of the Design Guidelines for the White House and President's Park.

Implementation Schedule

Five individuals encouraged shortening the proposed 20-year implementation schedule.

Final Plan and Environmental Impact Statement

Portions of the Draft Environmental Impact Statement (DEIS) were clarified and expanded upon, based upon the comments received during review of the draft plan and DEIS. The elements of the Draft Comprehensive Design Plan for the White House and President's Park were confirmed to be the elements of the final plan.

The Final Comprehensive Design Plan for the White House and President's Park and Final Environmental Impact Statement (FEIS) was released December 13, 1999. The Environmental Protection Agency 30-day no action period closed January 21, 2000. A total of 351 copies of the Final Plan/FEIS were distributed to all who commented on the Draft Plan/DEIS, park neighbors, interested public and private organizations and Members of Congress.

During the 30-day no action period, comments were received: (1) from the Environmental Protection Agency stating that EPA has determined that the National Park Service has adequately addressed its comments within the FEIS, and (2) from the Washington Metropolitan Area Transit Authority (METRO) complementing the plan and confirming that the plan has no impacts upon the existing Metrorail Red Line tunnels that traverse Lafayette Park and the northeast corner of the Treasury Building. METRO stated that they are looking at potential rail transit service from Georgetown to Mt. Vernon Square as well as other enhancements to the capacity of their Core system. They requested that as the project progresses into detailed design, they would appreciate an opportunity to review the documents associated with the underground parking and pedestrian connections along Pennsylvania Avenue between West Executive Avenue/Jackson Place and Madison Place. The National Park Service and the other agencies involved in the planning look forward to working together with METRO as the project moves forward through the implementation phase.

Conclusion

The National Park Service has determined that the preferred alternative described in the Final Comprehensive Design Plan for the White House and President's Park and Final Environmental Impact Statement (and described in the foregoing as the “Selected Action”) best meets the future needs of the White House and President's Park while protecting the natural and cultural resources located here and the fabric of the city surrounding the site.

Dated: March 29, 2000.
Robert Stanton,
Director, National Park Service.

[FR Doc. 00-10951 Filed 5-2-00; 8:45 am]

BILLING CODE 4310-70-P